DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than June 23, 2014.

Interested persons are invited to submit written comments regarding the subject matter of the investigations to the Director, Office of Trade Adjustment Assistance, at the address shown below, not later than June 23, 2014.

The petitions filed in this case are available for inspection at the Office of the Director, Office of Trade Adjustment Assistance, Employment and Training Administration, U.S. Department of Labor, Room N-5428, 200 Constitution Avenue NW., Washington, DC 20210.

Signed at Washington, DC, this 6th day of May 2014.
Del Min Amy Chen,
Certifying Officer, Office of Trade Adjustment Assistance.

Appendix
[15 TAA petitions instituted between 5/26/14 and 5/30/14]
TA-W | Subject Firm (petitioners) | Location | Date of institution | Date of petition
85334 | CUBIX Software Ltd., Inc. (Workers) | Longview, TX | 05/27/14 | 05/22/14
85335 | Textplus, Inc. (State/One-Stop) | Marina Del Rey, CA | 05/27/14 | 05/23/14
85336 | Inalfa Roof Systems, Inc. (State/One-Stop) | Lake Orion, MI | 05/28/14 | 05/27/14
85337 | Dell Services, Inc. (Workers) | Plano, TX | 05/28/14 | 05/27/14
85338 | Paslode (Company) | Pontotoc, MS | 05/29/14 | 05/27/14
85339 | Freescale Semiconductor, Inc. (Workers) | Austin, TX | 05/29/14 | 05/28/14
85340 | Aryzta (Otis Spunkmeyer) (Workers) | Export, PA | 05/29/14 | 05/27/14
85341 | Sanderson Plumbing Products, Inc. (Company) | Columbus, MS | 05/29/14 | 05/28/14
85342 | North Cascade Mechanical, LLC (Company) | Blaine, WA | 05/30/14 | 05/29/14
85343 | Risk Specialist Insurance Co (Lexington Ins) (Workers) | Houston, TX | 05/30/14 | 05/29/14
85344 | HR Plus/Sterling Infosystems Inc. (State/One-Stop) | Chicago, IL | 05/30/14 | 05/29/14
85345 | Eastman Kodak Company (Workers) | Dayton, OH | 05/30/14 | 05/29/14
85346 | Amphenol Borisch Technologies (Company) | Grand Rapids, MI | 05/30/14 | 05/29/14
85347 | St. Jude Medical (State/One-Stop) | Minnetonka, MN | 05/30/14 | 05/29/14
85348 | Center Partners, Inc. (Workers) | Idaho Falls, ID | 05/30/14 | 05/29/14

[FR Doc. 2014-13879 Filed 6-12-14; 8:45 am]

BILLING CODE 4510-FN-P